ENVIRONMENTAL PROTECTION AGENCY

[EPA-HQ-ORD-2015-0365; FRL 10006-09-ORD]

Board of Scientific Counselors (BOSC) Air and Energy Subcommittee Meeting—April 2020

AGENCY: Environmental Protection Agency (EPA).

ACTION: Notice of public meeting.

SUMMARY: The Environmental Protection Agency (EPA), Office of Research and Development (ORD), gives notice of a meeting of the Board of Scientific Counselors (BOSC) Air and Energy (A-E) Subcommittee to discuss the initial progress on implementation of the A-E Strategic Research Action Plan (StRAP).

DATES: The meeting will be held on Wednesday, April 1, 2020, from 8:30 a.m. to 5 p.m. (EST) and will continue on Thursday, April 2, 2020, from 8:30 a.m. to 5 p.m. (EST) and Friday, April 3, 2020, from 8:30 a.m. to 1 p.m. (EST). Meeting times are subject to change. This meeting is open to the public. Those who wish to attend must register by March 25, 2020. Comments must be received by March 25, 2020 to be considered by the subcommittee. Requests for the draft agenda or making a presentation at the meeting will be accepted until March 30, 2020.

ADDRESSES: The meeting will be held at the EPA's Research Triangle Park Main Campus Facility, Room C-114, 109 T.W. Alexander Drive, Research Triangle Park, North Carolina 27711. Attendees should register at https://epa-bosc-a-e.eventbrite.com by March 25, 2020.

Submit your comments to Docket ID No. EPA-HQ-ORD-2015-0365 by one of the following methods:

• www.regulations.gov: Follow the online instructions for submitting comments.

Note: comments submitted to the www.regulations.gov website are anonymous unless identifying information is included in the body of the comment.

• Email: Send comments by electronic mail (email) to: ORD.Docket@epa.gov, Attention Docket ID No. EPA-HQ-ORD-2015-0365.

Note: comments submitted via email are not anonymous. The sender's email will be included in the body of the comment and placed in the public docket which is made available on the internet.

• Fax: Fax comments to: (202) 566-0224, Attention Docket ID No. EPA-HQ-ORD-2015-0365.

• Mail: Send comments by mail to: Board of Scientific Counselors (BOSC) Air and Energy Subcommittee Docket, EPA Docket Center, WJC West Building, Room 3334, 1301 Constitution Ave. NW, Washington, DC 20004, Attention Docket ID No. EPA-HQ-ORD-2015-0365.

• Hand Delivery or Courier: Deliver comments to: EPA Docket Center (EPA/DC), Room 3334, WJC West Building, 1301 Constitution Ave. NW, Washington, DC 20004, Attention Docket ID No. EPA-HQ-ORD-2015-0365.

Note: this is not a mailing address. Deliveries are only accepted during the docket center's normal hours of operation, and special arrangements should be made for deliveries of boxed information.

Instructions: All comments received, including any personal information provided, will be included in the public docket without change and may be made available online at www.regulations.gov. Information claimed to be Confidential Business Information (CBI) or other information whose disclosure is restricted by statute will not be included in the public docket, and should not be submitted through www.regulations.gov or email. For additional information about the EPA's public docket visit the EPA Docket Center homepage at http://www.epa.gov/dockets/.

Public Docket: Publicly available docket materials may be accessed

• Online at www.regulations.gov.

• Hard Copy at the Board of Scientific Counselors Executive Committee Docket,

EPA/Docket Center Reading Room, William Jefferson Clinton West Building, Room 3334, 1301 Constitution Ave. NW, Washington, DC 20004, Hours: 8:30 a.m. to 4:30 p.m., Monday-Friday, Telephone: (202) 566-1744.

Copyrighted materials in the docket are only available via hard copy. The telephone number for the ORD Docket is (202) 566-1752.

FOR FURTHER INFORMATION CONTACT: The Designated Federal Officer (DFO) via mail at: Tom Tracy, Mail Code 8104R, Office of Science Policy, Office of Research and Development, U.S. Environmental Protection Agency, 1200 Pennsylvania Ave. NW, Washington, DC 20460; via phone/voice mail at: (202) 564-6518; via fax at: (202) 565-2911; or via email at: tracy.tom@epa.gov.

Any member of the public interested in receiving a draft agenda, attending the meeting, or making a presentation at the meeting may contact Tom Tracy.

SUPPLEMENTARY INFORMATION: The Board of Scientific Counselors (BOSC) is a federal advisory committee that provides advice and recommendations to EPA's Office of Research and Development on technical and management issues of its research programs. Meeting agenda and materials will be posted to https://www.epa.gov/bosc.Proposed agenda items for the meeting include but are not limited to the following: A-E program overview, emerging risks, and PFAS.

Information on Services Available: For information on translation services, access, or services for individuals with disabilities, please contact Tom Tracy at (202) 564-6518 or tracy.tom@epa.gov. To request accommodation of a disability, please contact Tom Tracy at least ten days prior to the meeting to give the EPA adequate time to process your request.

Authority: Pub. L. 92-463, § 1, Oct. 6, 1972, 86 Stat. 770.

Dated: March 10, 2020.
Mary Ross,
Director, Office of Science Advisor, Policy, and Engagement.

[FR Doc. 2020-05579 Filed 3-17-20; 8:45 am]

BILLING CODE 6560-50-P